DEPARTMENT OF COMMERCE

International Trade Administration

[A-570-847]

Notice of Continuation of Antidumping Duty Order: Persulfates from the People's Republic of China

AGENCY: Import Administration, International Trade Administration, Department of Commerce.

ACTION: Notice of Continuation of Antidumping Duty Order: Persulfates from the People's Republic of China.

SUMMARY: On September 30, 2002, the Department of Commerce (“the Department”), pursuant to sections 751(c) and 752 of the Tariff Act of 1930, as amended (“the Act”), determined that revocation of the antidumping duty order on persulfates from the People's Republic of China (“PRC”) would be likely to lead to continuation or recurrence of dumping.¹ On October 29, 2002, the International Trade Commission (“the Commission”), pursuant to section 751(c) of the Act, determined that revocation of the antidumping duty order on persulfates from the PRC would be likely to lead to continuation or recurrence of material injury to an industry in the United States within a reasonably foreseeable time.² Therefore, pursuant to 19 CFR 351.218(f)(4), the Department is publishing notice of the continuation of the antidumping duty order on persulfates from the PRC.

¹ Final Results of Expedited Sunset Review: Persulfates from the People's Republic of China, 67 FR 62226 (October 4, 2002)

² Persulfates from China, 67 FR 66001 (October 29, 2002).

EFFECTIVE DATE: December 24, 2002.

FOR FURTHER INFORMATION CONTACT: Amir R. Eftekhari or James P. Maeder, Jr., Office of Policy for Import Administration, International Trade Administration, U.S. Department of Commerce, 14th Street and Constitution Avenue, NW, Washington, DC 20230; telephone: (202) 482-5331 or (202) 482-3330.

SUPPLEMENTARY INFORMATION:

Scope of Review:

The products covered by this review are persulfates, including ammonium, potassium, and sodium persulfates. The chemical formula for these persulfates are, respectively, (NH4)2S2O8, K2S2O8, and Na2S2O8. Ammonium and potassium persulfates are currently classified under subheading 2833.40.60 of the Harmonized Tariff Schedule of the United States (HTSUS). Sodium persulfates are classified under HTSUS subheading 2833.40.20. The HTSUS subheadings are provided for convenience and customs purposes. The written description of the scope of this proceeding is dispositive.

Background:

On June 3, 2002, the Department initiated (67 FR 38332), and the Commission instituted (67 FR 38333), a sunset review of the antidumping duty order on Persulfates from the PRC, pursuant to section 751(c) of the Act. As a result of its review, the Department found that revocation of the antidumping duty order would be likely to lead to continuation or recurrence of dumping and notified the Commission of the magnitude of the margin likely to prevail were the order revoked. See Final Results of Expedited Sunset Review: Persulfates from the People's Republic of China, 67 FR 62226 (October 4, 2002).

The Commission determined, pursuant to section 751 (c) of the Act, that revocation of the antidumping duty order on persulfates from the PRC would be likely to lead to continuation or recurrence of material injury to an industry in the United States within a reasonably foreseeable time. See Persulfates from the PRC, 67 FR 66001 (October 29, 2002) and USITC Publication 3555 (October 2002), Investigation No. 731-TA-749 (Review).

Determination:

As a result of the determinations by the Department and the Commission that revocation of this antidumping duty order would be likely to lead to continuation or recurrence of dumping and material injury to an industry in the United States, pursuant to section 751(d)(2) of the Act, the Department hereby orders the continuation of the antidumping duty order on persulfates from the PRC. The Department will instruct Customs to continue to collect antidumping at the rates in effect at the time of entry for all imports of subject merchandise. The effective date of continuation of this order will be the date of publication in the Federal Register of this Notice of Continuation. Pursuant to section 751(c)(2) of the Act, the Department intends to initiate the next five-year review of this order not later than November 30, 2007.

Dated: December 16, 2002.
Faryar Shirzad,
Assistant Secretary for Import Administration.

[FR Doc. 02-32429 Filed 12-23-02; 8:45 am]

BILLING CODE 3510-DS-S